DEPARTMENT OF COMMERCE

International Trade Administration

[A-570-930]

Notice of Postponement of Preliminary Determination in the Antidumping Duty Investigation of Circular Welded Austenitic Stainless Pressure Pipe from the People's Republic of China

AGENCY: Import Administration, International Trade Administration, Department of Commerce.

EFFECTIVE DATE: June 24, 2008.

FOR FURTHER INFORMATION CONTACT: Melissa Blackledge or Howard Smith, AD/CVD Operations, Office 4, Import Administration, International Trade Administration, U.S. Department of Commerce, 14th Street and Constitution Avenue, NW, Washington, DC, 20230; telephone: (202) 482-3518 or (202) 482-5193, respectively.

SUPPLEMENTARY INFORMATION:

Postponement of Preliminary Determination

On February 19, 2008, the Department of Commerce (the “Department”) initiated the antidumping duty investigation of circular welded austenitic stainless pressure pipe from the People's Republic of China. See Circular Welded Austenitic Stainless Pressure Pipe from the People's Republic of China: Initiation of Antidumping Duty Investigation, 73 FR 10221 (February 26, 2008) (“Initiation Notice”). The Initiation Notice stated that, unless postponed, the Department would make its preliminary determination for this antidumping duty investigation no later than 140 days after the date of initiation. Id. at 10224.

On June 10, 2008, the petitioners¹ made a timely request pursuant to 19 CFR 351.205(e) for a 50-day postponement of the preliminary determination in this investigation. The petitioners requested postponement of the preliminary determination because of the “number of input factors, the complexity of the transactions to be investigated, and the difficulty in obtaining certain surrogate values.” There are no compelling reasons to deny the petitioners' request. Therefore, the Department is postponing this preliminary determination under section 733(c)(1)(A) of the Tariff Act of 1930, as amended (the “Act”) by 50 days from July 8, 2008 to August 27, 2008. The deadline for the final determination will continue to be 75 days after the date of the preliminary determination, unless extended.

¹ The petitioners in this investigation are Bristol Metals, L.P., Felker Brothers Corp., Marcegaglia USA, Inc., Outokumpu Stainless Pipe Inc., and the United Steel Workers of America.

This notice is issued and published pursuant to sections 733(c)(2) and 777(i)(1) of the Act and 19 CFR 351.205(f)(1).

Dated: June 18, 2008.
David M. Spooner,
Assistant Secretary for Import Administration.

[FR Doc. E8-14254 Filed 6-23-08; 8:45 am]

BILLING CODE 3510-DS-S